FEDERAL COMMUNICATIONS COMMISSION

47 CFR Part 73

[DA 04-2299, MB Docket No. 04-32, RM-10851]

Digital Television Broadcast Service; Apalachicola, FL

AGENCY: Federal Communications Commission.

ACTION: Final rule.

SUMMARY: The Commission, at the request of Liberty County Educational, allots DTV channel 3 to Apalachicola, Florida, as the community's first local commercial television service. See 69 FR 9790, March 2, 2004. DTV channel 3 can be allotted to Apalachicola in compliance with the Sections 73.623(d) and 73.625(a) at reference coordinates 29-45-05 N. and 84-52-19 W. with a power of 45 and HAAT of 305 meters. With this action, this proceeding is terminated.

DATES: Effective September 13, 2004.

FOR FURTHER INFORMATION CONTACT: Pam Blumenthal, Media Bureau, (202) 418-1600.

SUPPLEMENTARY INFORMATION: This is a synopsis of the Commission's Report and Order, MB Docket No. 04-32, adopted July 23, 2004, and released July 30, 2004. The full text of this document is available for public inspection and copying during regular business hours in the FCC Reference Information Center, Portals II, 445 12th Street, SW., Room CY-A257, Washington, DC. This document may also be purchased from the Commission's duplicating contractor, Best Copy and Printing, Inc., 445 12th Street, SW., Room CY-B402, Washington, DC 20554, telephone 301-816-2820, facsimile 301-816-0169, or via e-mail joshir@erols.com.

This document does not contain (new or modified) information collection requirements subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

The Commission will send a copy of this (Report & Order, etc.) in a report to be sent to Congress and the General Accounting Office pursuant to the Congressional Review Act, see 5 U.S.C. 801(a)(1)(A).

List of Subjects in 47 CFR Part 73

Digital television broadcasting, Television.

Part 73 of Title 47 of the Code of Federal Regulations is amended as follows:

PART 73—[AMENDED]

1. The authority citation for part 73 continues to read as follows:

Authority: 47 U.S.C. 154, 303, 334 and 336.

§ 73.622 [Amended]

2. Section 73.622(b), the Table of Digital Television Allotments under Florida, is amended by adding Apalachicola, DTV channel 3.

Federal Communications Commission.
Barbara A. Kreisman,
Chief, Video Division, Media Bureau.

[FR Doc. 04-17904 Filed 8-4-04; 8:45 am]

BILLING CODE 6712-01-P